DEPARTMENT OF TRANSPORTATION

Surface Transportation Board

[STB Docket No. AB-290 (Sub-No. 291X)]

Norfolk Southern Railway Company—Abandonment Exemption—in Grant County, IN

On October 10, 2007, Norfolk Southern Railway Company (NS) filed with the Surface Transportation Board a petition under 49 U.S.C. 10502 for exemption from the provisions of 49 U.S.C. 10903 in order to permit abandonment of 3.66 miles of rail line between mileposts TS 153.35 and TS 157.01 at Marion, in Grant County, IN (the line).¹ The line traverses U.S. Postal Service Zip Codes 46952 and 46953, and includes the stations of Kiley and Marion. NS states that service to Marion will continue via other NS lines.

¹ In its environmental and historic reports and its newspaper notice, NS states that the proposed abandonment will cover 3.91 miles of rail line, between mileposts TS 153.10 and TS 157.01. Prior to filing its petition for exemption, NS determined that it still required the use of the segment between mileposts TS 153.10 and TS 153.35, and therefore would seek an abandonment exemption only for the shorter segment described above. NS states in its petition that it has notified recipients of the environmental and historic reports in writing about the change.

The line does not contain Federally granted rights-of-way. Any documentation in NS's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by January 28, 2008.

Any offer of financial assistance (OFA) under 49 CFR 1152.27(b)(2) will be due no later than 10 days after service of a decision granting the petition for exemption. Each OFA must be accompanied by a $1,300 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than November 26, 2007. Each trail use request must be accompanied by a $200 filing fee. See 49 CFR 1002.2(f)(27).

All filings in response to this notice must refer to STB Docket No. AB-290 (Sub-No. 291X), and must be sent to: (1) Surface Transportation Board, 395 E Street, SW., Washington, DC 20423-0001; and (2) James R. Paschall, Senior General Attorney, Norfolk Southern Corporation, Three Commercial Place, Norfolk, VA 23510-2191. Replies to the petition are due on or before November 26, 2007.

Persons seeking further information concerning abandonment procedures may contact the Board's Office of Public Services at (202) 245-0230 or refer to the full abandonment or discontinuance regulations at 49 CFR part 1152. Questions concerning environmental issues may be directed to the Board's Section of Environmental Analysis (SEA) at (202) 245-0305. [Assistance for the hearing impaired is available through the Federal Information Relay Service (FIRS) at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at: http://www.stb.dot.gov.

Decided: October 22, 2007.
By the Board, David M. Konschnik, Director, Office of Proceedings.
Vernon A. Williams,
Secretary.

[FR Doc. E7-21163 Filed 10-29-07; 8:45 am]

BILLING CODE 4915-01-P